DEPARTMENT OF LABOR

Mine Safety and Health Administration

30 CFR Part 100

RIN 1219-AB51

Criteria and Procedures for Proposed Assessment of Civil Penalties

AGENCY: Mine Safety and Health Administration, Labor.

ACTION: Reopening of comment period.

SUMMARY: The Mine Safety and Health Administration (MSHA) is reopening the comment period to the proposed rule amending the criteria and procedures for proposed assessment of civil penalties. The proposed rule was published on September 8, 2006.

DATES: The comment period will close on November 9, 2006.

ADDRESSES: Identify all comments by “RIN: 1219-AB51” and send them to MSHA as follows:

(1) Electronically through the Federal e-Rulemaking portal at http://www.regulations.gov (Follow the online instructions for submitting comments) or by e-mail to zzMSHA-comments@dol.gov.

(2) By facsimile to 202-693-9441.

(3) By regular mail to MSHA, Office of Standards, Regulations, and Variances, 1100 Wilson Boulevard, Room 2350, Arlington, Virginia 22209-3939.

(4) By hand delivery to MSHA, 1100 Wilson Boulevard, 21st Floor, Arlington, Virginia. Leave the package at the receptionist's desk.

FOR FURTHER INFORMATION CONTACT: Patricia W. Silvey at 202-693-9440 (Voice), 202-693-9441 (Facsimile), or silvey.patricia@dol.gov (E-mail).

SUPPLEMENTARY INFORMATION: On September 8, 2006 (71 FR 53054), MSHA published a proposed rule amending its civil penalty regulations. The proposed rule would increase penalty amounts, implement new requirements of the Mine Improvement and New Emergency Response Act of 2006 (MINER Act) amendments to the Mine Safety and Health Act of 1977 (Mine Act), and revise Agency procedures for proposing civil penalties. MSHA requested comments on or before October 23, 2006. In addition, MSHA held six public hearings on September 26, September 28, October 4, October 6, 2006, October 17, and October 19, 2006.

At the public hearings held in Charleston, West Virginia, on October 17, and Pittsburgh, Pennsylvania, on October 19, 2006, MSHA stated that the proposed rule includes a requirement that requests for safety and health conferences be in writing. MSHA further stated that the Agency is considering adding a provision that such requests for a conference include a brief statement of the reason why each citation or order should be conferenced. MSHA stated that such a change would assure that parties requesting a conference focus on the issue to be discussed at the conference. In addition, this change would help expedite the conference process by providing the District Manager with necessary information prior to conducting the conference. MSHA requested comments on such a provision.

In addition, in response to comments at each of the public hearings, MSHA clarified that the proposed deletion of the single penalty assessment would be replaced with the regular penalty assessment. Thus, under the proposed rule, all violations that are now processed under the existing single penalty provision would be processed under the proposed regular assessment formula.

MSHA is reopening the public comment period for 2 weeks so that interested parties can address the issues. MSHA welcomes comment from all interested parties.

Dated: October 23, 2006.
Richard E. Stickler,
Assistant Secretary for Mine Safety and Health.

[FR Doc. 06-8933 Filed 10-24-06; 10:53 am]

BILLING CODE 4510-43-P